SOCIAL SECURITY ADMINISTRATION

[Docket No. SSA-2009-0033]

Occupational Information Development Advisory Panel Meeting

AGENCY: Social Security Administration (SSA).

ACTION: Notice of upcoming quarterly panel meeting.

DATES: September 16, 2009, 8:30 a.m.-5 p.m. (PDT); September 17, 2009, 8:30 a.m.-5 p.m. (PDT)

Location: Westin Bonaventure Hotel and Suites.

ADDRESSES: 404 South Figueroa Street, Los Angeles, California 90071.

By Teleconference: Toll-Free: (866) 283-8246; Leader/Host: Debra Tidwell-Peters.

SUPPLEMENTARY INFORMATION:

Type of meeting: The meeting is open to the public.

Purpose: This discretionary Panel, established under the Federal Advisory Committee Act of 1972, as amended, shall report to the Commissioner of Social Security. The Panel will provide independent advice and recommendations on plans and activities to replace the Dictionary of Occupational Titles used in the Social Security Administration's (SSA) disability determination process. The Panel will advise the Agency on creating an occupational information system tailored specifically for SSA's disability programs and adjudicative needs. Advice and recommendations will relate to SSA's disability programs in the following areas: medical and vocational analysis of disability claims; occupational analysis, including definitions, ratings and capture of physical and mental/cognitive demands of work and other occupational information critical to SSA disability programs; data collection; use of occupational information in SSA's disability programs; and any other area(s) that would enable SSA to develop an occupational information system suited to its disability programs and improve the medical-vocational adjudication policies and processes.

Agenda: The Panel will meet on Wednesday, September 16, 2009, from 8:30 a.m. until 5 p.m. and Thursday, September 17, 2009, from 8:30 a.m. until 5 p.m. The agenda will be available on the Internet one week prior to the meeting at http://www.socialsecurity.gov/oidap/meeting_information.htm.

The tentative agenda for this meeting includes presentations on information required for a proposed occupational information system and user needs outreach plans; discussion, deliberation and voting by the Panel on core recommendations to be included in the upcoming report to the agency; and an administrative business meeting.

The Panel will hear public comment during the Quarterly Meeting on Wednesday, September 16, 2009 from 3 p.m. to 4 p.m. and on Thursday, September 17, 2009 from 10 a.m. to 11 a.m. In order to provide comment, members of the public must request a time slot—assigned on a first come, first served basis. In the event public comment does not take the entire period allotted, the Panel may use any remaining time to deliberate or conduct other business.

Persons interested in providing comment in person at the meeting or by teleconference should contact the Panel staff by e-mail to OIDAP@ssa.gov. Individuals are limited to a maximum five minute, verbal presentation. Organizational representatives will be allotted a maximum ten minute, verbal presentation. Written testimony, no longer than five (5) pages, may be submitted at any time either in person, mail, fax or e-mail to OIDAP@ssa.gov for Panel consideration.

Seating is limited. Individuals who need special accommodation in order to attend or participate in the meeting (e.g., assistive listening devices, or materials in alternative formats, such as large print or CD) should notify Debra Tidwell-Peters via e-mail to debra.tidwell-peters@ssa.gov or by telephone at 410-965-9617, no later than September 4, 2009. SSA will attempt to meet requests made but cannot guarantee availability of services. All meeting locations are barrier free.

The meeting may be accessed by teleconference by using the dial-in instructions included above.

Contact Information: Records of all public Panel proceedings are maintained and available for inspection. Anyone requiring further information should contact the Panel staff at: Occupational Information Development Advisory Panel, Social Security Administration, 6401 Security Boulevard, 3-E-26 Operations, Baltimore, MD 21235-0001. Telephone: 410-965-9617. Fax: 202-410-597-0825. E-mail to OIDAP@ssa.gov. For additional information, please visit the Panel Web site at http://www.ssa.gov/oidap.

Debra Tidwell-Peters,
Designated Federal Officer, Occupational Information Development Advisory Panel.

[FR Doc. E9-20829 Filed 8-27-09; 8:45 am]

BILLING CODE P